DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Economic Census Covering the Construction Sector.

Form Number(s): CC-23601, CC-23701, CC-23702, CC-23703, CC-23801, CC-23802, CC-23803, CC-23804, CC-23805, CC-23806, CC-23807, CC-23808, CC-23809.

Agency Approval Number: None.

Type of Request: New collection.

Burden: 325,000 hours in FY 2003.

Number of Respondents: 130,000.

Avg Hours Per Response: 2.5 hours.

Needs and Uses: The 2002 Economic Census Covering the Construction Sector will use a mail canvass, supplemented by data from Federal administrative records, to measure the economic activity of approximately 700,000 construction establishments classified in the North American Industry Classification System (NAICS). The construction sector of the economic census comprises establishments primarily engaged in the construction of buildings and other structures , additions, alterations, reconstruction, installation, and maintenance and repairs. The economic census will produce basic statistics by industry for number of establishments, value of construction work, payroll, employment, selected costs, depreciable assets, inventories and capital expenditures. It also will yield a variety of subject statistics, including estimates of type of construction work done, kind of business activity and other industry-specific measures. Industry statistics will be summarized for the United States and states.

Affected Public: Business or other for-profit.

Frequency: One time.

Respondent's Obligation: Mandatory.

Legal Authority: Title 13 U.S.C., Sections 131 and 224.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: February 15, 2002.
Madeleine Clayton,
Departmental Paperwork Clearance Officer, Office of the Chief Information Officer.

[FR Doc. 02-4117 Filed 2-20-02; 8:45 am]

BILLING CODE 3510-07-P